DEPARTMENT OF AGRICULTURE

Forest Service

Tongass National Forest Wrangell Ranger District; Alaska; Wrangell Island Project Environmental Impact Statement

AGENCY: Forest Service, USDA.

ACTION: Corrected Notice of Intent to prepare an environmental impact statement; Correction.

SUMMARY: A Corrected Notice of Intent (NOI) to prepare an environmental impact Statement was published in the Federal Register (77 FR 14727) on March 13, 2012 concerning a request for scoping comments. The document contained incorrect dates.

FOR FURTHER INFORMATION CONTACT: Tim Piazza, Team Leader, Federal Building, Ketchikan, AK 99901, (907) 228-6318.

Correction

In the Federal Register of March 13, 2012 (77 FR 14727), on page 14727, in the third column, correct the DATES caption to read:

DATES: Comments received during the initial scoping period in 2010-2011 will be considered in the preparation of this EIS. New or additional comments must be received April 27, 2012. The draft environmental impact statement is expected in December 2012, and the final environmental impact statement is expected in June 2013.

Dated: March 13, 2012.
Forrest Cole,
Forest Supervisor, Tongass National Forest.

[FR Doc. 2012-6780 Filed 3-20-12; 8:45 am]

BILLING CODE 7710-12-P